ENVIRONMENTAL PROTECTION AGENCY

[EPA-HQ-OPP-2007-0975; FRL-8855-6]

Methomyl; Cancellation Order for Amendments To Terminate Use of Methomyl on Grapes

AGENCY: Environmental Protection Agency (EPA).

ACTION: Notice.

SUMMARY: This notice announces EPA's order for the amendments to terminate use, voluntarily requested by the registrant and accepted by the Agency, of products containing methomyl, pursuant to section 6(f)(1) of the Federal Insecticide, Fungicide, and Rodenticide Act (FIFRA), as amended. This cancellation order follows an October 24, 2007 Federal Register Notice of Receipt of Requests from the registrant listed in Table 2 of Unit II. to voluntarily amend to terminate the grape use from all product registrations. In the October 24, 2007 notice, EPA indicated that it would issue an order implementing the amendments to terminate use, unless the Agency received substantive comments within the 180 day comment period that would merit its further review of these requests, or unless the registrant withdrew the requests. On April 14, 2008, the registrant withdrew the voluntary cancellation of the grape use and submitted a Pesticide Registration Improvement Act (PRIA) action to modify the methomyl use on grapes. While this new information refined the dietary risk assessment, it was not sufficient to change the Agency's previous conclusion. As a result, the registrant withdrew the PRIA action on April 9, 2010. Accordingly, EPA hereby issues in this notice a cancellation order granting the requested amendments to terminate use. Any distribution, sale, or use of the products subject to this cancellation order is permitted only in accordance with the terms of this order, including any existing stocks provisions.

DATES: The amendments are effective December 8, 2010.

FOR FURTHER INFORMATION CONTACT: Tom Myers, Pesticide Re-evaluation Division (7508P), Office of Pesticide Programs, Environmental Protection Agency, 1200 Pennsylvania Ave., NW., Washington, DC 20460-0001; telephone number: (703) 308-8589; fax number: (703) 308-7070; e-mail address: myers.tom@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How can I get copies of this document and other related information?

EPA has established a docket for this action under docket identification (ID) number EPA-HQ-OPP-2007-0975. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What action is the Agency taking?

This notice announces the amendments to delete certain uses, as requested by the registrant, of products registered under section 3 of FIFRA. These registrations are listed in sequence by registration number in Table 1 of this unit.

Table 2—Methomyl Product Registration Amendments To Delete Use
EPA registration No. | Product name | Use deleted
352-342 | Dupont Lannate SP Insecticide | Grapes.
352-384 | Dupont Lannate LV Insecticide | Grapes.

Table 2 of this unit includes the name and address of record for the registrant of the products in Table 1 of this unit, in sequence by EPA company number. This number corresponds to the first part of the EPA registration numbers of the products listed above.

Table 2—Registrants of Methomyl Products
EPA company No. | Company name and address
000352 | E.I. du Pont de Nemours and Company DuPont Crop Protection, Stine-Haskell Research Center, P.O. Box 30, Newark, DE 19714-0030.

III. Summary of Public Comments Received and Agency Response to Comments

On April 14, 2008, during the public comment period the registrant withdrew the voluntary cancellation of the grape use and submitted a PRIA action consisting of a change in the use of methomyl on grapes along with grape residue monitoring data provided by grape growers. While this new information refined the dietary assessment, it was not sufficient to change the Agency's previous conclusion. As a result, the registrant withdrew the PRIA action on April 9, 2010. For this reason, the Agency does not believe that the information submitted during the comment period merits further review or a denial of the requests for voluntary use deletion.

IV. Cancellation Order

Pursuant to FIFRA section 6(f), EPA hereby approves the requested amendments to terminate uses of methomyl registrations identified in Table 1 of Unit II. Accordingly, the Agency hereby orders that the product registrations identified in Table 1 of Unit II. are amended to terminate the affected use. The effective date of the cancellations that are the subject of this notice is December 8, 2010. Any distribution, sale, or use of existing stocks of the products identified in Table 1 of Unit II. in a manner inconsistent with any of the provisions for disposition of existing stocks set forth in Unit VI. will be a violation of FIFRA.

V. What is the Agency's authority for taking this action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment on October 24, 2007 (72 FR 60634) (FRL-8153-3). The comment period closed on April 21, 2008.

VI. Provisions for Disposition of Existing Stocks

Existing stocks are those stocks of registered pesticide products which are currently in the United States and which were packaged, labeled, and released for shipment prior to the effective date of the action. The existing stocks provision for the products subject to this order is as follows.

Now that EPA has approved product labels reflecting the requested amendments to delete uses, registrants are permitted to sell or distribute products listed in Table 1 of Unit II. under the previously approved labeling until June 8, 2012, a period of 18 months after publication of the cancellation order in this Federal Register, unless other restrictions have been imposed. Thereafter, registrants will be prohibited from selling or distributing the products whose labels include the deleted uses identified in Table 1 of Unit II., except for export consistent with FIFRA section 17 or for proper disposal.

Persons other than the registrant may sell, distribute, or use existing stocks of products whose labels include the deleted uses until supplies are exhausted, provided that such sale, distribution, or use is consistent with the terms of the previously approved labeling on, or that accompanied, products with the deleted uses.

List of Subjects

Environmental protection, Pesticides and pests.

Dated: December 2, 2010.
Richard P. Keigwin, Jr.,
Director, Pesticide Re-evaluation Division, Office of Pesticide Programs.

[FR Doc. 2010-30865 Filed 12-7-10; 8:45 am]

BILLING CODE 6560-50-P